DEPARTMENT OF THE INTERIOR

Fish and Wildlife Service

Notice of Availability of the Draft Interim Visitor Services Plan for the Midway Atoll National Wildlife Refuge/Battle of Midway National Memorial/Midway Atoll Special Management Area

AGENCY: Fish and Wildlife Service, Interior.

ACTION: Notice of availability.

SUMMARY: The Fish and Wildlife Service (Service) has completed a Draft Interim Visitor Services Plan (VSP) and associated Environmental Assessment (EA) for the Midway Atoll National Wildlife Refuge/Battle of Midway National Memorial/Midway Atoll Special Management Area (Refuge). The Draft VSP/EA is available for public review and comments. This remote Pacific island Refuge is a U.S. territory located in the Northwestern Hawaiian Islands, and part of the newly established Northwestern Hawaiian Islands Marine National Monument (Monument). The VSP is intended to guide visitor activities on the Refuge for an interim period of time until a broader Monument management plan is completed that meets the applicable requirements of a refuge comprehensive conservation plan.

DATES: Written comments must be received (see ADDRESSES) by midnight on February 6, 2007.

ADDRESSES: Comments on the Draft VSP/EA should be submitted via electronic mail to midway@fws.gov. Please use “VSP” in the subject line. Alternatively, comments may be addressed to: Barbara Maxfield, Chief, Pacific Islands Division of External Affairs and Visitor Services, 300 Ala Moana Blvd., Room 5-231, Honolulu, HI 96850. You may view or obtain copies of the Draft VSP/EA as indicated under SUPPLEMENTARY INFORMATION.

FOR MORE INFORMATION CONTACT: Barbara Maxfield, Chief, Pacific Islands Division of External Affairs and Visitor Services, phone number (808) 792-9531.

SUPPLEMENTARY INFORMATION: The Draft VSP and EA were prepared pursuant to the National Wildlife Refuge System Administration Act of 1966, as amended by the National Wildlife Refuge System Improvement Act of 1997, and the National Environmental Policy Act of 1969, in consultation with the Secretary of Commerce through the National Oceanic and Atmospheric Administration (NOAA), and the State of Hawaii.

Important elements of the Draft VSP/EA include: Allowing visitation only in limited numbers, and only from November through July, to ensure no adverse impacts to wildlife or their habitats occurs and to maintain a high quality visitor experience; and developing and maintaining a financially self-sustaining program and an associated table of proposed fees.

The Draft VSP/EA will be available for viewing and downloading online at http://www.fws.gov/midway. Limited copies of the Draft VSP/EA may be obtained by writing to the U.S. Fish and Wildlife Service, Attn: Barbara Maxfield, Chief, Pacific Islands Division of External Affairs and Visitor Services, 300 Ala Moana Blvd., Room 5-231, Honolulu, HI, 96850. Copies of the Draft VSP/EA may be viewed at the Hawaiian and Pacific Islands National Wildlife Refuge Complex Office, Monday through Friday, during regular business hours from 7 a.m. to 4 p.m. The office is located in the Prince Jonah Kuhio Kalanianaole Federal Building at 300 Ala Moana Blvd., Room 5-231, Honolulu, HI.

Background

In 1996, the Service prepared a public use plan to guide visitor services on the Refuge. Since then, new laws and policy regarding wildlife-dependent recreation in the National Wildlife Refuge System have been promulgated, and a new visitor services plan is required to ensure recreational uses at the Refuge are compatible with the National Wildlife Refuge System mission and the purposes of the Refuge and the Battle of Midway National Memorial. In addition, all recreational activities must be compliant with the requirements of the newly designated Monument, which refers to the Refuge as a Special Management Area.

The Draft VSP/EA is an interim plan to guide visitor activities on the Refuge until such time as the broader management plan is completed for the Monument that meets the applicable requirements of a refuge comprehensive conservation plan. The Monument's management plan will incorporate opportunities to participate in broader management and conservation activities, within the Northwestern Hawaiian Islands and throughout the main Hawaiian Islands, benefiting the Monument.

The development of this Draft VSP/EA began prior to the establishment of the Monument to fulfill Service requirements necessary to allow a regularly scheduled visitor services program to resume at the Refuge. As such, the focus of activities under the Draft VSP/EA is limited to initial visitor services within the Midway Atoll Special Management Area only. Future planning for a Monument-wide visitor services program will be further developed to more fully realize the President's vision to create a visitor window to the Monument at the Refuge. In addition, future planning will explore opportunities for visitor use at Kure Atoll (under the jurisdiction of the State of Hawaii) and in the main Hawaiian Islands, using distance learning and remote educational opportunities. The Service will continue to work closely with its co-trustees of the Monument, NOAA and the State of Hawaii, when the final VSP is implemented, and in the development of the Monument's management plan. Longer-term strategies are included in this Draft VSP/EA, so the interested public may gain a vision of what the co-trustees envision at the Refuge.

This Draft VSP/EA evaluates recreational activities at the Refuge, and describes the structure of the proposed visitor services program. It also outlines activities that honor and interpret the World War II history at Midway Atoll, in recognition of its status as the Battle of Midway National Memorial. It discusses operational limitations, biological constraints, and partnership opportunities beyond Midway Atoll.

Since 1995, the Service has been strongly committed to welcoming visitors to the Refuge. This is the first and only remote island national wildlife refuge in the Pacific Ocean to provide the general public with an opportunity to learn about and experience these unique ecosystems. A regularly scheduled visitor program operated on the Refuge until early in 2002, when it ended after our cooperator left the atoll. Since then, visitors have arrived almost exclusively by the occasional cruise ship or sailboat, or for a Battle of Midway commemorative event. In the Draft VSP/EA, opportunities to expand the visitor program and allow more people to experience Midway's wildlife and historic treasury are proposed.

Preliminary compatibility determinations are provided in the Draft VSP/EA that would allow the following wildlife-dependent recreational uses: Wildlife observation and photography, environmental education and interpretation, and participatory research. Hunting and fishing, two uses normally given priority on national wildlife refuges, will not take place on the Refuge. All animal species occurring on the Refuge are protected by law, or occur in numbers too low to provide hunting opportunities. Recreational fishing is precluded under the Presidential proclamation (Proclamation 8031) designating the Monument.

Additional preliminary compatibility determinations allow for beach use activities such as swimming and volleyball, non-administrative airport operations, limited outdoor sports such as bicycling and jogging, and amateur radio use. Each preliminary compatibility determination includes stipulations necessary to ensure protection of the Refuge's natural and historic resources. Any additional activities that may be proposed within the Refuge would need to be evaluated through the compatibility determination process with formal public review. Activities that are determined to be compatible are authorized through the issuance of Monument permits, which fall within six permit types: Conservation and management, research, education, Native Hawaiian uses, special ocean uses, and recreation.

Goals, objectives, and strategies for the visitor program are discussed in Chapter 4 of the Draft VSP/EA. The Service will encourage individual visitors as well as organized groups to visit the Refuge. Opportunities for teacher workshops in environmental education, college courses, and distance learning will be explored. Improvements to trails and installation of blinds will benefit wildlife observation and photography opportunities, as will snorkeling and guided kayaking tours. Onsite and offsite interpretation of Midway Atoll's historic and wildlife resources will be enhanced.

In order to ensure a quality visitor experience using the limited infrastructure currently available, limiting the total number of overnight visitors that would be allowed on Midway Atoll at any one time to 30 people in 2007, and 50 people in 2008 and beyond, as long as the VSP is effective, is proposed. The number of visitors may exceed these limits for short periods of time (less than a day) for prearranged visits by ocean vessels or aircraft. In these cases, visitor activities are closely supervised and primarily consist of guided tours or participation in commemorative events. Annual goals for the number of overnight visitors are 100 people in 2007 and 500 people in 2008 and beyond.

For the next 5 years (2007-2011), visitor programs would operate from November through July, which coincides with the albatross season on the Refuge. The months of August through October would be reserved primarily for planned construction and major maintenance activities.

With no additional Service funding available to support a visitor program, visitation at the Refuge must be financially self-sustaining. Fees reflecting actual costs for transportation, lodging, food services, and visitor services staffing are included in this Draft VSP/EA. Additional permitting requirements also are discussed.

For this interim period, the Service intends to operate the visitor program primarily with its own staffing and with help from Monument co-trustees and volunteers. Outside entities may be needed to provide assistance with marketing the program, and to establish a dive program at the Refuge. These options will be evaluated over the coming year.

Public Comments

Public comments are requested, considered, and incorporated throughout the planning process. After the review and comment period ends for the Draft VSP/EA, comments will be analyzed by the Service and addressed in revised planning documents. All comments received from individuals, including names and addresses, become part of the official public record and may be released. Requests for such comments will be handled in accordance with the Freedom of Information Act, the Council on Environmental Quality's NEPA regulations [40 CFR 1506.6(f)], and Service and Department of the Interior policies and procedures.

Dated: December 6, 2006.
David J. Wesley,
Acting Regional Director, Region 1, Portland, Oregon.

[FR Doc. E6-22112 Filed 12-22-06; 8:45 am]

BILLING CODE 4310-55-P